DEPARTMENT OF HEALTH AND HUMAN SERVICES

Centers for Medicare & Medicaid Services

[Document Identifier: CMS-10445]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title: Medicare Advantage Quality Bonus Payment Demonstration; Use: In response to the provision of the Affordable Care Act, beginning in 2012, quality bonus payments (QBPs) are given to all plans earning four or five stars in Medicare's Star Rating program. As an extension of this legislation, CMS launched the Medicare Advantage Quality Bonus Payment Demonstration, which accelerates the phase-in of QBPs by extending bonus payments to three-star plans and eliminating the cap on blended county benchmarks that would otherwise limit QBPs. Through this demonstration, CMS seeks to understand how incentive payments impact plan quality across a broader spectrum of plans.

The data collection effort will be conducted in the form of a survey of Medicare Advantage Organizations (MAOs) and up to 10 case studies with MAOs in order to supplement what can be learned from the analyses of administrative and financial data for MAOs, and from an environmental and literature scan. The data collected is needed to evaluate the QBP demonstration to better understand what impact the demonstration has had on MAO operations and their efforts to improve quality. The data collection instrument is a survey questionnaire designed to capture information on how MAOs perceive the demonstration and are planning for or implementing changes in quality initiatives and to identify factors that help or hinder the capacity to achieve quality improvement and that influence the decision calculus to make changes. Specifically, the information is expected to provide a detailed picture to CMS of the kinds of quality initiatives utilized by MAOs and some preliminary information on how they assess the effectiveness of these programs. The survey is designed to provide an overall picture of the QBP that can be used for national comparisons across plans as part of the larger evaluation of the QBP demonstration.

The case studies will be conducted as a series of open-ended discussions with MAO staff that will be guided by a discussion protocol. The case studies will supplement the information gathered from the survey and data analysis, providing valuable context and details about successful quality improvement activities. The case studies are particularly well suited to exploring the detailed characteristics of the plans' quality improvement activities, emphasizing the decision-making and thought processes underlying the structure and direction of their efforts and capturing the contextual factors that impact the nature, structure, and scope of the programs. The 60-day Federal Register notice published on September 17, 2012, (77 FR 57090). Subsequently, there were revisions to the MAO survey. Form Number: CMS-10445 (OCN: 0938-New); Frequency: Annual; Affected Public: Private Sector—Business or other for-profits; Number of Respondents: 730; Total Annual Responses: 1,280; Total Annual Hours: 683. (For policy questions regarding this collection contact Gerald Riley at 410-786-6699. For all other issues call 410-786-1326.)

To obtain copies of the supporting statement and any related forms for the proposed paperwork collections referenced above, access CMS Web Site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on March 27, 2013.

OMB, Office of Information and Regulatory Affairs, Attention: CMS Desk Officer, Fax Number: (202) 395-6974, Email: OIRA_submission@omb.eop.gov.

Dated: February 19, 2013.
Martique Jones,
Deputy Director, Regulations Development Group, Office of Strategic Operations and Regulatory Affairs.

[FR Doc. 2013-04152 Filed 2-22-13; 8:45 am]

BILLING CODE 4120-01-P